NUCLEAR REGULATORY COMMISSION

[NRC-2009-0138]

Proposed Generic Communication; Pre-Licensing Construction Activities at Proposed, Unlicensed Uranium Recovery Facilities

AGENCY: Nuclear Regulatory Commission.

ACTION: Proposed generic communication: Reopening of public comment period.

SUMMARY: The U.S. Nuclear Regulatory Commission (NRC) is reopening the comment period specific to the information collection aspects of a proposed regulatory issue summary (RIS) published on March 27, 2009 (74 FR 13483), which presents the NRC's interpretation of the regulations governing the commencement of construction found in 10 CFR 40.32(e). The comment period for this proposed RIS closed on April 27, 2009.

DATES: Comment period expires May 15, 2009. Comments submitted after this date will be considered if it is practical to do so, but assurance of consideration cannot be given except for comments received on or before this date.

ADDRESSES: Submit written comments to the Chief, Uranium Recovery Licensing Branch, Division of Waste Management and Environmental Protection, Office of Federal and State Materials and Environmental Management Programs, U.S. Nuclear Regulatory Commission, Mail Stop T-8F5, Washington, DC 20555-0001, and cite the publication date and page number of this Federal Register notice. Written comments may also be delivered to NRC Headquarters, 11545 Rockville Pike (Room T-8F5), Rockville, Maryland, between 7:30 a.m. and 4:15 p.m. on Federal workdays.

FOR FURTHER INFORMATION CONTACT: Mr. Stephen J. Cohen at 301-415-7182 or by e-mail at stephen.cohen@nrc.gov.

ADDRESSES: All holders of operating licenses for uranium recovery facilities and all companies that have submitted applications to construct new uranium recovery facilities of all types (conventional mills, heap leach, and in situ recovery (ISR) facilities) or letters of intent to submit such applications.

Intent

The U.S. Nuclear Regulatory Commission (NRC) is issuing this regulatory issue summary (RIS) to inform addressees of the NRC's policy regarding the permissible construction activities at proposed, unlicensed uranium recovery facilities. The NRC is issuing this RIS in response to industry inquiries regarding the activities that applicants may undertake prior to receiving a license.

SUPPLEMENTARY INFORMATION: In relation to the applications for new uranium recovery facilities currently under review and those applications expected over the next several years, the NRC has been queried by the uranium recovery industry about those construction activities that would be permissible at proposed uranium recovery facilities before a license is granted. The industry has requested information on permissible construction activities, including the potential use of limited work authorizations (LWAs) as provided in the reactor program, in the interest of minimizing the lead time from receipt of a license to the initiation of uranium recovery operations.

The NRC's regulations in 10 CFR 40.32(e) prohibits the commencement of construction of a uranium recovery facility until a license is issued. Moreover, commencement of construction prior to the issuance of a license would be grounds for denial of a license. “Commencement of construction” includes any clearing of land, excavation, or other substantial action that would adversely affect the environment of a site. However, the rule does permit site exploration, construction of roads necessary for site exploration, borings to determine foundation conditions, or other preconstruction monitoring or testing to establish background information related to the suitability of the site or the protection of environmental values. These activities may be conducted before a license is granted.

According to industry, ISR applicants, therefore, should be allowed to build out most of the facilities without a license, utilizing a tiered system of activities. Tier 1 includes activities for which NRC would have no jurisdiction. Tier 2 activities would include those requiring NRC approval, but not a license. Tier 3 activities would not occur until a license is issued and would include construction of the evaporation ponds and actual operations.

Dated at Rockville, Maryland, this 29th day of April 2009.
For the Nuclear Regulatory Commission.
Keith I. McConnell,
Deputy Director, Decommissioning and Uranium Recovery Licensing Directorate, Division of Waste Management and Environmental Protection, Office of Federal and State Materials and Environmental Management Programs.

[FR Doc. E9-11201 Filed 5-12-09; 8:45 am]

BILLING CODE 7590-01-P